DEPARTMENT OF TRANSPORTATION

Surface Transportation Board

[STB Finance Docket No. 34891]

Lackawaxen-Honesdale Shippers Association, Inc.—Acquisition Exemption—Pennsylvania Department of Transportation

Lackawaxen-Honesdale Shippers Association, Inc. (LHSA), has filed a verified notice of exemption under 49 CFR 1150.31 for the acquisition of approximately 24.74 miles of rail line from the Pennsylvania Department of Transportation (PennDOT), in Wayne and Pike Counties, PA. The line, known as the Honesdale Branch, extends from milepost 110.26, in Lackawaxen, PA, to milepost 135.00, in Honesdale, PA. The Honesdale Branch was conveyed by PennDOT to LHSA on January 31, 2003.¹ Due to lack of familiarity with the Board's regulatory requirements, LHSA failed to obtain acquisition authority on an exemption for the transaction. Accordingly, to rectify that omission, LHSA files this notice of exemption from the prior approval requirements of 49 U.S.C. 10901.

¹ The Stourbridge Railroad Company, Inc., obtained operating authority for this rail line in Stourbridge Railroad Company, Inc.—Operation Exemption—in Wayne and Pike Counties, PA, Finance Docket No. 31508 (ICC served January 25, 1990).

LHSA certifies that its projected revenues as a result of the transaction will not result in LHSA becoming a Class II or Class I rail carrier.

The exemption became effective on June 21, 2006 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34891, must be filed with the Surface Transportation Board, 1925 K Street, NW., Washington, DC 20423-0001. In addition, one copy of each pleading must be served on Richard R. Wilson, Esq., 127 Lexington Avenue, Ste. 100, Altoona, PA 16601.

Board decisions and notices are available on our Web site at http://www.stb.dot.gov.

Decided: July 5, 2006.
By the Board, David M. Konschnik, Director, Office of Proceedings.
Vernon A. Williams,
Secretary.

[FR Doc. E6-10942 Filed 7-12-06; 8:45 am]

BILLING CODE 4915-01-P